DEPARTMENT OF DEFENSE

Office of the Secretary

[Transmittal No. 20-0B]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, and Transmittal 20-0B.

Dated: January 17, 2020.
Aaron T. Siegel,
Alternate OSD Federal Register Liaison Officer, Department of Defense.

BILLING CODE 5001-06-P

BILLING CODE 5001-06-C

Transmittal No. 20-0B

REPORT OF ENHANCEMENT OR UPGRADE OF SENSITIVITY OF TECHNOLOGY OR CAPABILITY (SEC. 36(B)(5)(C), AECA)

(i) Purchaser: Government of Japan

(ii) Sec. 36(b)(1), AECA Transmittal No.: 15-32

Date: May 4, 2015

Military Department: Navy

(iii) Description: On May 4, 2015, Congress was notified by Congressional Notification Transmittal Number 15-32, of the possible sale under Section 36(b)(1) of the Arms Export Control Act for the procurement of seventeen (17) V-22B Block C Osprey aircraft, forty (40) AE1107C Rolls Royce Engines, forty (40) AN/AAQ-27 Forward Looking InfraRed Radars, forty (40) AN/AAR-47 Missile Warning Systems, forty (40) AN/APR-39 Radar Warning Receivers, forty (40) AN/ALE-47 Countermeasure Dispenser Systems, forty (40) AN/APX-123 Identification Friend or Foe Systems, forty (40) AN/APN-194 Radar Altimeters, forty (40) AN/ARN-147 VHF Omni-directional Range (VOR) Instrument Landing System (ILS) Beacon Navigation Systems, forty (40) 629F-23 Multi-Band Radios (Non-COMSEC), forty (40) AN/ASN-163 Miniature Airborne Global Positioning Systems (GPS) Receivers (MAGR), forty (40) AN/ARN-153 Tactical Airborne Navigation Systems, eighty (80) Night Vision Goggles, Joint Mission Planning System (JMPS) with unique planning components, publications and technical documentation, aircraft spares and repair parts, repair and return, aircraft ferry services, tanker support, support and test equipment, personnel training and training equipment, software, U.S. Government and contractor engineering, logistics and technical support services, and other elements of technical and program support. The estimated total cost was $3 billion. Major Defense Equipment (MDE) constituted $1.8 billion of this total.

On December 19, 2016, Congress was notified by Congressional certification 0Y-16 of the inclusion of twenty (20) M240D 7.62mm Machine Guns as MDE, twenty (20) GAU-21 .50 Caliber Machine Guns as non-MDE, and twenty (20) Traffic Collision Avoidance Systems (TCAS) II as non-MDE. The addition of this equipment did not result in a net increase in MDE cost or a net increase in the total case value. The total estimated MDE cost remained $1.8 billion. The total estimated case value remained $3 billion.

This transmittal reports the inclusion of an additional five (5) AE1107C Rolls Royce engines and twenty (20) 629F-23 Multi-Band radios (both non-MDE) and includes the extension of the sustainment that will support annual cases to fund manpower through Other Technical Assistance (OTA), Engineering Technical Assistance (ETA), Logistic Technical Assistance (LTA), and Contractor Engineering Technical Support (CETS).

The addition of these items and sustainment costs will result in a net increase in non-MDE value of $1 billion. The total estimated MDE cost will remain $1.8 billion. The total case value will increase to $4 billion.

(iv) Significance: This proposed equipment and sustainment will support Japan's continued modernization of its transport fleet to better support its defense and special mission needs.

(v) Justification: This proposed sale will support the foreign policy and national security of the United States by improving the security of a major ally that is a force for political stability and economic progress in the Asia-Pacific region. It is vital to U.S. national interests to assist Japan in developing and maintaining a strong and effective self-defense capability.

(vi) Date Report Delivered to Congress: January 2, 2020

[FR Doc. 2020-01139 Filed 1-23-20; 8:45 am]

BILLING CODE 5001-06-P